DEPARTMENT OF HOMELAND SECURITY

Federal Emergency Management Agency

[Docket ID FEMA-2014-0002]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Alabama: Jefferson (FEMA Docket No.: B-1407) | Unincorporated areas of Jefferson County (13-04-8615P) | The Honorable David Carrington, Chairman, Jefferson County Board of Commissioners, 716 Richard Arrington Jr. Boulevard North, Birmingham, AL 35203 | Jefferson County Courthouse, Land Development Office, 716 Richard Arrington Jr. Boulevard North, Room 202A, Birmingham, AL 35263 | April 24, 2014 | 010217
Arizona:
Maricopa (FEMA Docket No.: B-1417) | City of Scottsdale (13-09-2519P) | The Honorable W.J. Lane, Mayor, City of Scottsdale, 3939 North Drinkwater Boulevard, Scottsdale, AZ 85251 | City Hall, 3939 North Drinkwater Boulevard, Scottsdale, AZ 85251 | May 16, 2014 | 045012
Maricopa (FEMA Docket No.: B-1417) | City of Scottsdale (13-09-2520P) | The Honorable W.J. Lane, Mayor, City of Scottsdale, 3939 North Drinkwater Boulevard, Scottsdale, AZ 85251 | City Hall, 3939 North Drinkwater Boulevard, Scottsdale, AZ 85251 | May 23, 2014 | 045012
California:
Nevada (FEMA Docket No.: B-1417) | Town of Truckee (13-09-1067P) | The Honorable Patrick Flora, Mayor, Town of Truckee, 10183 Truckee Airport Road, Truckee, CA 96161 | Planning Division, 10183 Truckee Airport Road, Truckee, CA 96161 | May 19, 2014 | 060762
Riverside (FEMA Docket No.: B-1417) | City of Indio (13-09-3081P) | The Honorable Michael Wilson, Mayor, City of Indio, 100 Civic Center Mall, Indio, CA 92201 | City Hall, 100 Civic Center Mall, Indio, CA 92201 | May 12, 2014 | 060255
Sacramento (FEMA Docket No.: B-1417) | City of Sacramento (13-09-0004P) | The Honorable Kevin Johnson, Mayor, City of Sacramento, 915 I Street, 5th Floor, Sacramento, CA 95814 | Stormwater Management Department, 1395 35th Avenue, Sacramento, CA 95822 | May 12, 2014 | 060266
Sacramento (FEMA Docket No.: B-1417) | Unincorporated areas of Sacramento County (13-09-0004P) | The Honorable Susan Peters, Chair, Sacramento County Board of Supervisors, 700 H Street, Room 2450, Sacramento, CA 95814 | Municipal Services Agency, Department of Water Resources, 827 7th Street, Suite 301, Sacramento, CA 95814 | May 12, 2014 | 060262
San Diego (FEMA Docket No.: B-1417) | City of San Diego (13-09-1496P) | The Honorable Todd Gloria, Interim Mayor, City of San Diego, 202 C Street, 11th Floor, San Diego, CA 92101 | Development Services Center, 1222 1st Avenue, 3rd Floor, San Diego, CA 92101 | May 23, 2014 | 060295
Colorado:
Adams (FEMA Docket No.: B-1407) | City of Commerce City (13-08-1128P) | The Honorable Sean Ford, Sr., Mayor, City of Commerce City, 7887 East 60th Avenue, Commerce City, CO 80022 | City Hall, 5291 East 60th Avenue, Commerce City, CO 80022 | April 25, 2014 | 080006
Denver (FEMA Docket No.: B-1407) | City and County of Denver (13-08-0942P) | The Honorable Michael B. Hancock, Mayor, City and County of Denver, 1437 Bannock Street, Suite 350, Denver, CO 80202 | Department of Public Works, 201 West Colfax Avenue, Denver, CO 80202 | May 5, 2014 | 080046
Elbert (FEMA Docket No.: B-1417) | Unincorporated areas of Elbert County (13-08-1173P) | The Honorable Robert Rowland, Chairman, Elbert County Board of Commissioners, P.O. Box 7, Kiowa, CO 80117 | Elbert County Community and Development Services Department, P.O. Box 7, Kiowa, CO 80117 | May 23, 2014 | 080055
Florida:
Brevard (FEMA Docket No.: B-1407) | City of Cocoa Beach (13-04-4473P) | The Honorable Dave Netterstrom, Mayor, City of Cocoa Beach, 2 South Orlando Avenue, Cocoa Beach, FL 32931 | City Hall, 2 South Orlando Avenue, Cocoa Beach, FL 32931 | May 5, 2014 | 125097
Brevard (FEMA Docket No.: B-1407) | Unincorporated areas of Brevard County (13-04-4473P) | The Honorable Andy Anderson, Brevard County Commissioner, 2725 Judge Fran Jamieson Way, Viera, FL 32940 | Brevard County Public Works Department, Brevard County Government Center, 2725 Judge Fran Jamieson Way, Viera, FL 32940 | May 5, 2014 | 125092
Charlotte (FEMA Docket No.: B-1417) | Unincorporated areas of Charlotte County (14-04-0121P) | The Honorable Ken Doherty, Chairman, Charlotte County Board of Commissioners, 18500 Murdock Circle, Port Charlotte, FL 33948 | Charlotte County Community Development Department, 18500 Murdock Circle, Port Charlotte, FL 33948 | May 15, 2014 | 120061
Escambia (FEMA Docket No.: B-1407) | Unincorporated areas of Escambia County (13-04-5547P) | The Honorable Gene M. Valentino, Chairman, Escambia County Board of Commissioners, 221 Palafox Place, Suite 400, Pensacola, FL 32502 | Escambia County Development Services Department, 3363 West Park Place, Pensacola, FL 32505 | May 12, 2014 | 120080
Orange (FEMA Docket No.: B-1407) | City of Orlando (13-04-7164P) | The Honorable Buddy Dyer, Mayor, City of Orlando, P.O. Box 4990, Orlando, FL 32808 | Permitting Services Department, 400 South Orange Avenue, Orlando, FL 32801 | April 25, 2014 | 120186
Georgia:
Bryan (FEMA Docket No.: B-1417) | Unincorporated areas of Bryan County (13-04-1675P) | The Honorable Jimmy Burnsed, Chairman, Bryan County Board of Commissioners, 173 Davis Road, Richmond Hill, GA 31324 | Bryan County Planning and Zoning Department, 66 Captain Matthew Freeman Drive, Suite 201, Richmond Hill, GA 31324 | May 15, 2014 | 130016
Jackson (FEMA Docket No.: B-1407) | City of Jefferson (13-04-5609P) | The Honorable Jim Joiner, Mayor, City of Jefferson, 147 Athens Street, Jefferson, GA 30549 | City Hall, 147 Athens Street, Jefferson, GA 30549 | May 1, 2014 | 130112
Nebraska: Lancaster (FEMA Docket No.: B-1407) | City of Lincoln (13-07-2463P) | The Honorable Chris Beutler, Mayor, City of Lincoln, 555 South 10th Street, Suite 301, Lincoln, NE 68508 | Building and Safety Department, 555 South 10th Street, Lincoln, NE 68508 | May 5, 2014 | 315273
North Carolina:
Avery (FEMA Docket No.: B-1417) | Town of Newland (14-04-0936P) | The Honorable Valerie Jaynes, Mayor, Town of Newland, P.O. Box 429, Newland, NC 28657 | Town Hall, 301 Cranberry Street, Newland, NC 28657 | April 11, 2014 | 370012
Avery (FEMA Docket No.: B-1417) | Unincorporated areas of Avery County (14-04-0936P) | The Honorable Kenny Poteat, Chairman, Avery County Board of Commissioners, P.O. Box 640, Newland, NC 28657 | Avery County Planning and Inspections Department, 200 Montezuma Street, Newland, NC 28657 | April 11, 2014 | 370010
Avery (FEMA Docket No.: B-1407) | Unincorporated areas of Avery County (14-04-0128P) | The Honorable Kenny Poteat, Chairman, Avery County Board of Commissioners, P.O. Box 640, Newland, NC 28657 | Avery County Planning and Inspections Department, 200 Montezuma Street, Newland, NC 28657 | April 25, 2014 | 370010
Buncombe (FEMA Docket No.: B-1407) | Town of Black Mountain (14-04-0350P) | The Honorable Carl Bartlett, Mayor, Town of Black Mountain, 160 Midland Avenue, Black Mountain, NC 28711 | Planning and Development Department, 160 Midland Avenue, Black Mountain, NC 28711 | April 25, 2014 | 370033
Buncombe (FEMA Docket No.: B-1417) | Unincorporated areas of Buncombe County (13-04-1379P) | Ms. Wanda Greene, Buncombe County Manager, 200 College Street, Suite 300, Asheville, NC 28801 | Buncombe County Planning Department, 46 Valley Street, Asheville, NC 28801 | May 12, 2014 | 370031
Forsyth (FEMA Docket No.: B-1417) | City of Winston-Salem (13-04-0816P) | The Honorable Allen Joines, Mayor, City of Winston-Salem, 101 North Main Street, Suite 150, Winston-Salem, NC 27101 | Inspections Department, 100 East 1st Street, Suite 328, Winston-Salem, NC 27101 | May 13, 2014 | 375360
Surry (FEMA Docket No.: B-1417) | Unincorporated areas of Surry County (14-04-0937P) | The Honorable Eddie Harris, Chairman, Surry County Board of Commissioners, 118 Hamby Road, Dobson, NC 27017 | Surry County Planning and Development Department, 122 Hamby Road, Dobson, NC 27017 | April 11, 2014 | 370364
Union (FEMA Docket No.: B-1417) | City of Monroe (14-04-0931P) | The Honorable Bobby Kilgore, Mayor, City of Monroe, 300 West Crowell Street, Monroe, NC 28112 | City Hall, 300 West Crowell Street, Monroe, NC 28112 | April 10, 2014 | 370236
Wake (FEMA Docket No.: B-1417) | Town of Garner (14-04-0933P) | The Honorable Ronnie Williams, Mayor, Town of Garner, 900 7th Avenue, Garner, NC 27529 | Town Hall, 900 7th Avenue, Garner, NC 27529 | April 10, 2014 | 370240
South Carolina:
Charleston (FEMA Docket No.: B-1407) | City of Charleston (13-04-6316P) | The Honorable Joseph P. Riley, Jr., Mayor, City of Charleston, P.O. Box 652, Charleston, SC 29402 | Department of Public Services, 75 Calhoun Street, 3rd Floor, Charleston, SC 29401 | May 5, 2014 | 455412
Richland (FEMA Docket No.: B-1417) | City of Columbia (14-04-0393P) | The Honorable Steve Benjamin, Mayor, City of Columbia, P.O. Box 147, Columbia, SC 29217 | Department of Engineering, P.O. Box 147, Columbia, SC 29217 | May 26, 2014 | 450172

(Catalog of Federal Domestic Assistance No. 97.022, “Flood Insurance.”)

Dated: June 17, 2014.
Roy E. Wright,
Deputy Associate Administrator for Mitigation, Department of Homeland Security, Federal Emergency Management Agency.

[FR Doc. 2014-15833 Filed 7-7-14; 8:45 am]

BILLING CODE 9110-12-P